DEPARTMENT OF COMMERCE

National Oceanic and Atmospheric Administration

[RTID 0648-XE574]

Western Pacific Fishery Management Council; Public Meetings

AGENCY: National Marine Fisheries Service (NMFS), National Oceanic and Atmospheric Administration (NOAA), Commerce.

ACTION: Notice of public meetings.

SUMMARY: The Western Pacific Fishery Management Council (Council) will hold a joint meeting of its Archipelagic Plan Team (APT) and Pelagic Plan Team (PPT) to discuss fishery management issues and develop recommendations for future management of fisheries in the Western Pacific Region.

DATES: The APT and PPT will meet jointly from Tuesday to Thursday, January 21-23, 2025, between 12 p.m. and 5 p.m. Hawaii Standard Time (HST). For specific times and agendas, see SUPPLEMENTARY INFORMATION.

ADDRESSES: The meeting will be held virtually with remote participation (Webex) options available for the members, and public attendance limited to web conference via Webex. Specific information on joining the meeting, connecting to the web conference and making oral public comments will be posted on the Council website at www.wpcouncil.org. For assistance with the web conference connection, contact the Council office at (808) 522-8220.

FOR FURTHER INFORMATION CONTACT: Kitty M. Simonds, Executive Director, Western Pacific Fishery Management Council, (808) 522-8220 (voice) or (808) 522-8226 (fax).

SUPPLEMENTARY INFORMATION: The APT and PPT meeting will be held Tuesday to Thursday, January 21-23, 2025, between 12 p.m. and 5 p.m. Hawaii Standard Time (HST) (11 a.m. to 4 p.m. Samoa Standard Time (SST); 8 a.m. to 1 p.m. on January 22-24, 2025, Chamorro Standard Time (ChST)). Opportunities to present oral public comment will be provided on the agenda. The order of the agenda may change, and will be announced in advance at the meeting. The meeting may run past the scheduled times noted above to complete scheduled business.

Agenda for the Archipelagic Plan Team Meeting

Tuesday, January 21, 2025, 12 Noon to 5 p.m. Hawaii Standard Time (HST) (11 a.m. to 4 p.m. Samoa Standard Time (SST); 8 a.m. to 1 p.m. on January 22-24, 2025, Chamorro Standard Time (ChST)).

1. Welcome and Introductions

2. Report on 2024 Plan Team Recommendations and Work Items

A. Fishery Performance Work Items

i. American Samoa

a. Creel Survey Data Evaluation

b. Species-Specific Catch Reporting and Annual Catch Limit Tracking

c. Available Fish Aggregating Device Program Data

ii. Commonwealth of the Northern Mariana Islands (CNMI)

a. Commercial Data Update

iii. Guam

a. Impact of Weather and Military Closures on Fishing Effort

iv. Hawaii

a. Bottomfish Management Unit Species (MUS) Aggregation

b. Bottomfish Prevalence at United Fishing Agency

v. Pelagics

a. Socioeconomic Observer Data Collection

b. Life History Module

vi. Commercial Fishery Data

a. Low Territorial Commercial Reporting

b. Discrepancies in Commercial Data Streams

vii. Oceanic and Ecosystem Indicators

a. Brainstorm of New Recruitment Indices

b. Tula Observatory Data

c. Data Integration/Fishery-Ecosystem Relationships

viii. Online Portal Review

B. Public Comment on Day 1 Agenda Items

Wednesday, January 22, 2025, 12 p.m. to 5 p.m. Hawaii Standard Time (HST) (11 a.m. to 4 p.m. Samoa Standard Time (SST); 8 a.m. to 1 p.m. on January 22-24, 2025, Chamorro Standard Time (ChST)).

C. Ecosystem Component Species (ECS) Management

i. Presentation on How to Manage ECS

ii. Examples from other Councils

iii. Ecosystem Objectives

iv. How to promote back an MUS

v. General Council Pacific Islands Perspective

3. Non-Commercial Fishey Performance

a. Pelagic Territorial Non-commercial Module

b. Marine Recreational Information Program (MRIP) Presentation on Nature of MRIP Surveys and Hawaii Marine Recreational Fisheries Survey

c. A new Approach to the Hawaii MUS Non-commercial Module

d. Discussion on Hawaii Non-Commercial Module stemming from December Scientific and Statistical Committee Meeting

e. Including Uku Non-Commercial Catch

4. Public Comment on Day 2 Agenda Items

Thursday, January 23, 2025, 12 p.m. to 5 p.m. Hawaii Standard Time (HST) (11 a.m. to 4 p.m. Samoa Standard Time (SST); 8 a.m. to 1 p.m. on January 22-24, 2025, Chamorro Standard Time (ChST)).

5. Annual Stock Assessment and Fishery Evaluation Report Revamp Status Update

6. Council Actions

a. Tier 6 Acceptable Biological Catch Control Rule

b. American Samoa Bottomfish MUS Revision Updates

c. ACL Specifications

1. CNMI Bottomfish

2. Main Hawaiian Islands (MHI) Uku

3. MHI Kona Crab

4. MHI Deepwater Shrimp and Precious Corals

d. Pelagic Action Updates and Discussion

1. Electronic Monitoring

2. Crew Training

3. North Pacific Striped Marlin

7. Other Business

8. Public Comment on Day 3 Agenda Items

9. Discussion and Recommendations

Special Accommodations

These meetings are accessible to people with disabilities. Please direct requests for sign language interpretation or other auxiliary aids to Kitty M. Simonds (see FOR FURTHER INFORMATION CONTACT section above) at least 5 days prior to the meeting date.

Authority: 16 U.S.C. 1801 et seq.

Dated: December 23, 2024.
Rey Israel Marquez,
Acting Deputy Director, Office of Sustainable Fisheries, National Marine Fisheries Service.

[FR Doc. 2024-31347 Filed 12-27-24; 8:45 am]

BILLING CODE 3510-22-P